DEPARTMENT OF DEFENSE

Department of the Army; Corps of Engineers

Intent To Prepare a Draft Environmental Impact Statement for the Woodbridge River Basin, Middlesex County, NJ, Flood Control and Aquatic Ecosystem Restoration Study

AGENCY: Department of the Army, U.S. Army Corps of Engineers, DoD.

ACTION: Notice of intent.

SUMMARY: In accordance with the President's Council of Environmental Quality (CEQ) Rules and Regulations, as defined and amended in 40 Code of Federal Regulations (CFR), Parts 1500-1508, the U.S. Army Corps of Engineers (USACE), New York District (District), is preparing a Draft Environmental Impact Statement (DEIS) to determine the feasibility of implementing flood damage protection and aquatic ecosystem restoration measures along the Woodbridge River Basin in Middlesex, NJ. The Woodbridge River Basin (Basin) is approximately 5 miles in length with a drainage area of approximately 10 miles. Tidal surges and inadequate channel capacities to contain increased stormwater runoff account for flooding problems within the Basin. The Basin has experienced numerous flood events that have incurred damages to homes, businesses and pubic infrastructure; the latest occurring in October of 1996 during which the Township of Woodbridge sustained damages in excess of $1 million. Direct impacts to the Basin's aquatic ecosystem as a result of urbanization include the loss of wetland acreage, floodplain encroachment, stream bank erosion, increased sedimentation and nutrient and pollutant loading. The District will develop and evaluate various structural and non-structural flood damage reduction measures and will investigate opportunities to restore aquatic ecosystem structure and functions.

FOR FURTHER INFORMATION CONTACT: Ms. Kimberly Rightler, Project Biologist, Planning Division, U.S. Army Corps of Engineers, New York District, NY 10278-0090, (212) 264-9846 or kimberly.a.rightler@usace.army.mil.

SUPPLEMENTARY INFORMATION: 1. This study is authorized by U.S. House of Representatives Resolution Docket 2552 dated May 1998.

2. Scoping: Public scoping meeting(s) are anticipated to occur in September 2003. Results from the public scoping meeting(s) with the District and Federal, state, and local agencies will be addressed in the DEIS. A separate notice, in local area newspapers, indicating the location, date and time of the scoping meeting(s) will be released at a later date and a scoping document will be prepared and made available prior to the scoping meeting(s). Parties interested in receiving notices of public scoping meeting(s) or copies of the scoping document should contact Ms. Rightler at the above address.

3. Date of DEIS Release: The DEIS is scheduled to be available April 2005.

Frank Santomauro,
Chief, Planning Division.

[FR Doc. 03-15021 Filed 6-12-03; 8:45 am]

BILLING CODE 3710-06-M